ENVIRONMENTAL PROTECTION AGENCY

[ER-FRL-6353-7]

Environmental Impact Statements and Regulations; Availability of EPA Comments

Availability of EPA Comments Prepared April 10, 2000 Through April 14, 2000 Pursuant to the Environmental Review Process (ERP), Under Section 309 of the Clean Air Act and Section 102(2)(c) of the National Environmental Policy Act as Amended

Requests for copies of EPA comments can be directed to the Office of Federal Activities at (202) 564-7167.

An explanation of the ratings assigned to draft environmental impact statements (EISs) was published in FR dated April 09, 1999 (63 FR 17856).

Draft EISs

ERP No. D-AFS-J65322-MT Rating EC2, Spar and Lake Subunits Forest Health Project, Improvements, Kootenai National Forest, Three Rivers Ranger District, Lincoln County, MT.

Summary: EPA supports project purpose and need, proposed helicopter logging, minimal new road construction, and proposed road decommissioning. EPA expressed concerns about inadequate information on weed control chemicals for the project area, and on the proposed monitoring program to identify impacts from implementation activities. EPA notes that the proposed action could impact drainages classified as water quality limited by the State of Montana and the proposed action should be consistent with the State's Total Maximum Daily Load (TMDL) development.

ERP No. D-AFS-K65345-CA Rating EC2, Pendola Fire Restoration Project, Implementation, Tahoe National Forest, Downieville Ranger District, Yuba County, CA.

Summary: EPA expressed concern that purpose and need is too narrowly drawn, and recommended that the Forest Service take additional steps to address cumulative watershed effects in the program area.

ERP No. D-NPS-E61074-00 Rating EC2, Big South Fork National River and Recreation Area, General Management Plan, Implementation, McCreary, KY and Fentress, Morgan, Pickett, and Scott Counties, TN.

Summary: EPA expressed environmental concern due to lack of information concerning specifics on management plan implementation and enforcement, and mitigation for impacts to water quality.

Final EISs

ERP No. F-AFS-J65311-MT Good Creek Resource Management Project, Implementation, Vegetation Treatments and Other Activities to Restore Watershed, Flathead National Forest, Tally Lake Ranger District, Flathead County, MT.

Summary: EPA expressed environmental concerns regarding the potential water quality impacts of timber harvest, and the adequacy of proposed monitoring to measure aquatic impacts from proposed management actions.

ERP No. F-AFS-L65325-ID Sloan-Kennally Timber Sale, Proposal to Harvest and Regenerate Timber Strands, Implementation, ayette National Forest, McCall Ranger District, Valley County, ID.

Summary: EPA remains concerned about the loss of roadless character with this project.

Dated: April 25, 2000.
B. Katherine Biggs,
Associate Director, NEPA Compliance Division, Office of Federal Activities.

[FR Doc. 00-10675 Filed 4-27-00; 8:45 am]

BILLING CODE 6560-50-P